DEPARTMENT OF THE TREASURY

Submission for OMB Review; Comment Request

January 24, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 2, 2006 to be assured of consideration.

Internal Revenue Service (IRS)

OMB Number: 1545-1146.

Type of Review: Extension.

Title: Applicable Conventions under the Accelerated Cost Recovery System PS-54-89 (Final).

Description: The regulations describe the time and manner of making the notation required to be made on Form 4562 under certain circumstances when the taxpayer transfers property in certain non-recognition transactions. The information is necessary to monitor compliance with the section 168 rule.

Respondents: Business or other for-profit and Farms.

Estimated Total Burden Hours: 70 hours.

OMB Number: 1545-1948.

Type of Review: Extension.

Title: One-Time Dividends Received Deduction for Certain Cash Dividends from Controlled Foreign Corporations.

Form: IRS form 8895.

Description: Form 8895 is used by a U.S. corporation to elect the 85% dividends received deduction provided under section 965 and to compute the DRD.

Respondents: Business or other for-profit.

Estimated Total Burden Hours: 50,020 hours.

OMB Number: 1545-1957.

Type of Review: Extension.

Title: Notice 2005-64 Foreign Tax Credit and other Guidance under Section 965.

Description: This document provide guidance under new section 965 enacted by the American Jobs Creation Act of 2004 (Pub. L. 108-357). In general, and subject to limitations and conditions, section 965(a) provides that a corporation that is a U.S. shareholder of a controlled foreign corporation (CFC) may elect, for one taxable year, an 85 percent dividends received deduction (DRD) with respect to certain cash dividends it receives from its CFCs. Section 9650(f) provides that taxpayers may elect the application of section 965 for either the taxpayer's last taxable year which begins before October 22, 2004, or the taxpayer's first taxable year which begins during the one-year period beginning on October 22, 2004.

Respondents: Business or other for-profit.

Estimated Total Burden Hours: 250,000 hours.

OMB Number: 1545-1956.

Type of Review: Extension.

Title: Rev. Proc. 2005-51, Revenue Procedure regarding I.R.C. 6707A(e) and Disclosure with the SEC.

Description: This revenue procedure provides guidance to persons who are required to disclose payment of certain penalties arising from participation in reportable transactions on forms filed with the Securities and Exchange Commission.

Respondents: Business or other for-profit.

Estimated Total Burden Hours: 429.50 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. E6-1164 Filed 1-30-06; 8:45 am]

BILLING CODE 4830-01-P